DEPARTMENT OF TRANSPORTATION

Surface Transportation Board

[STB Docket No. MC-F-20962]

Tedesco Family ESB Trust-Control-Funaway Tours of New Jersey, Inc.

AGENCY: Surface Transportation Board, DOT.

ACTION: Notice Tentatively Approving Finance Application.

SUMMARY: Tedesco Family ESB Trust, Francis Tedesco and Mark Tedesco, settlers, of Hoboken, NJ (Tedesco Trust), a noncarrier, and Franmar Logistics, Inc., of Hoboken, NJ (Franmar), its noncarrier subsidiary, seek approval under 49 U.S.C. 14303(a) for their control of Franmar's noncarrier subsidiary, Consolidated Bus Service, Inc. (Consolidated), upon Consolidated's acquisition of the operating authority and other property of Funaway Tours of New Jersey, Inc., of New York, NY (Funaway), a motor carrier of passengers. Persons wishing to oppose the application must follow the rules under 49 CFR 1182.5 and 1182.8. The Board has tentatively approved the transaction and, if no opposing comments are timely filed, this notice will be the final Board action.

DATES: Comments must be filed by May 1, 2000. Applicants may file a reply by May 16, 2000. If no comments are filed by May 1, 2000, this notice is effective on that date.

ADDRESSES: Send an original and 10 copies of any comments referring to STB Docket No. MC-F-20962 to: Surface Transportation Board, Office of the Secretary, Case Control Unit, 1925 K Street, N.W., Washington, DC 20423-0001. In addition, send one copy of any comments to applicants' representative: Fritz R. Kahn, Suite 750 West, 1100 New York Avenue, N.W., Washington, DC 20005-3934.

FOR FURTHER INFORMATION CONTACT: Joseph H. Dettmar (202) 565-1600. [TDD for the hearing impaired: 1-800-877-8339.]

SUPPLEMENTARY INFORMATION: Tedesco Trust is a noncarrier, which directly controls Academy Bus Tours, Inc. (MC-165004) and Academy Lines, Inc. (MC-106207), and which, through Franmar, controls Academy Bus Tours, Inc. (PA) (MC-215354), Academy Express, Inc. (MC-228481), Commuter Bus Line, Inc. (MC-162133), and No. 22 Hillside Corp. (MC-182453). The six carriers controlled directly or indirectly by Tedesco Trust (which include the four carriers controlled by Franmar) provide either local commuter bus service and other regular-route service or conduct special or charter operations, or a combination of both. Collectively, these carriers operate between New York, NY, and various points in New Jersey and Pennsylvania.

Franmar also controls Consolidated, a noncarrier, which is proposing to acquire the property of Funaway, including its operating authority. Funaway holds federally issued operating authority in Docket No. MC-174942 authorizing it to provide regular-route service between New York, NY, and Atlantic City, NJ, and to conduct special and charter operations. Funaway also holds New York intrastate authority to conduct special and charter operations.

Under 49 U.S.C. 14303(b), we must approve and authorize a transaction we find consistent with the public interest, taking into consideration at least: (1) The effect of the transaction on the adequacy of transportation to the public; (2) the total fixed charges that result; and (3) the interest of affected carrier employees.

Applicants have submitted the information required by 49 CFR 1182.2 to demonstrate that the proposed acquisition of control is consistent with the public interest under 49 U.S.C. 14303(b). Applicants state that the proposed transaction will have a positive effect on the adequacy of transportation to the public and will result in no increase in fixed charges, or adversely impact the interests of the employees. See 49 CFR 1182.2(a)(7). Additional information may be obtained from the applicants' representative.

On the basis of the application, we find that the proposed acquisition of control is consistent with the public interest and should be authorized. If any opposing comments are timely filed, this finding will be deemed vacated and, unless a final decision can be made on the record as developed, a procedural schedule will be adopted to reconsider the application. See 49 CFR 1182.6(c). If no opposing comments are filed by the expiration of the comment period, this decision will take effect automatically and will be the final Board action.

Board decisions and notices are available on our website at “WWW.STB.DOT.GOV.”

This decision will not significantly affect either the quality of the human environment or the conservation of energy resources.

It is ordered:

1. The proposed acquisition of control is approved and authorized, subject to the filing of opposing comments.

2. If timely opposing comments are filed, the findings made in this decision will be deemed as having been vacated.

3. This decision will be effective on May 1, 2000, unless timely opposing comments are filed.

4. A copy of this notice will be served on: (1) The U.S. Department of Transportation, Federal Motor Carrier Safety Administration—HMCE-20, 400 Virginia Avenue, S.W., Suite 600, Washington, DC 20024; (2) the U.S. Department of Justice, Antitrust Division, 10th Street & Pennsylvania Avenue, N.W., Washington, DC 20530; and (3) the U.S. Department of Transportation, Office of the General Counsel, 400 7th Street, S.W., Washington, DC 20590.

Decided: March 6, 2000.
By the Board, Chairman Morgan, Vice Chairman Burkes, and Commissioner Clyburn.
Vernon A. Williams,
Secretary.

[FR Doc. 00-5918 Filed 3-14-00; 8:45 am]

BILLING CODE 4915-00-P